DEPARTMENT OF HOUSING AND URBAN DEVELOPMENT

[Docket No. FR-4820-N-30]

Notice of Proposed Information Collection: Comment Request; Reporting Requirements Associated with 24 CFR 203.508b and 24 CFR 235.1001—Providing Information

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: September 2, 2003.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8003, Washington, DC 20410 or Wayne_Eddins@hud.gov.

FOR FURTHER INFORMATION CONTACT: Joseph McCloskey, Director, Office of Single Family Asset Management, Department of Housing and Urban Development, 451 7th Street SW., Washington, DC 20410, telephone (202) 708-1672 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) evaluate the accuracy of the agency's estimate of the burden of the proposed collection of information; (3) enhance the quality, utility, and clarity of the information to be collected; and (4) minimize the burden of the collection of information on those who are to respond; including the use of appropriate automated collection techniques or other forms of information technology, e.g., permitting electronic submission of responses.

This Notice also lists the following information:

Title of Proposal: Reporting Requirements Associated with 24 CFR 203.508(b) and 24 CFR 235.1001—Providing Information.

OMB Control Number, if applicable: 2502-0235.

Description of the need for the information and proposed use: The purpose of this notice is to extend the use of 24 CFR 203.508b and 24 CFR 235.1001. The requirements of the 24 CFR 203.508b state, in part, that “all mortgagors must be informed by the mortgagees of the system available to them on loan inquiries on their mortgages and they must be reminded of the system at least annually.” The requirements of 24 CFR 235.1001 state, in part, that “mortgagees must provide to the mortgagor and annual statement of interest paid and taxes disbursed and shall include an accounting of the total amount of assistance payments paid by HUD and applied to the mortgagor's account during the preceding year.”

Agency form numbers, if applicable: None.

Estimation of the total numbers of hours needed to prepare the information collection including number of respondents, frequency of response, and hours of response: The estimated total number of burden hours needed to prepare the information collection is 1,361; the number of respondents is 122 generating approximately 5,444 annual responses; the frequency of response is annually and third party disclosures; and the estimated time needed to prepare the response is 15 minutes.

Status of the proposed information collection: Extension is a previously approved collection.

Authority: The Paperwork Reduction Act of 1995, 44 U.S.C., Chapter 35, as amended.

Dated: June 23, 2003.
Sean G. Cassidy,
General Deputy Assistant Secretary for Housing-Deputy Federal Housing Commissioner.

[FR Doc. 03-16778 Filed 7-1-03; 8:45 am]

BILLING CODE 4210-27-M